DEPARTMENT OF AGRICULTURE

Federal Crop Insurance Corporation

Notice of Request for Extension of a Currently Approved Information Collection

AGENCY: Federal Crop Insurance Corporation, USDA.

ACTION: Extension of approval of an information collection; comment request.

SUMMARY: This notice announces a public comment period on the information collection requests (ICRs) associated with the interpretation of statutory and regulatory provisions administered by Federal Crop Insurance Corporation (FCIC).

DATES: Written comments on this notice will be accepted until close of business February 6, 2006.

ADDRESSES: Interested persons are invited to submit written comments to William J. Murphy, Deputy Administrator Insurance Services Division, Federal Crop Insurance Corporation, United States Department of Agriculture, 1400 Independence Ave. SW., Stop 0805, Washington, DC 20250-0805. Comments titled “Information Collection OMB 0563-0055” may be sent via the Internet to: William.Murphy@rma.usda.gov.

FOR FURTHER INFORMATION CONTACT: Heyward Baker, Director, Risk Management Services Division, Federal Crop Insurance Corporation, at the above address, telephone (202) 624-0737.

SUPPLEMENTARY INFORMATION: Title: General Administrative Regulations; Interpretations of Statutory and Regulatory Provisions.

OMB Number: 0563-0055.

Expiration Date of Approval: March 31, 2006.

Type of Request: Extension of a currently approved information collection.

Abstract: FCIC is proposing to renew the currently approved information collection, OMB Number 0563-0055. It is currently up for renewal and extension for three years. FCIC is conducting a thorough review of information collections associated with providing an interpretation of statutory and regulatory provisions under this collection. The information collection requirements for this renewal package are necessary for FCIC to provide an interpretation of statutory and regulatory provisions upon request. This data is used to administer the provisions of 7 CFR part 400, subpart X in accordance with the Federal Crop Insurance Act, as amended.

We are asking the Office of Management and Budget (OMB) to extend its approval of our use of this information collection activity for an additional 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 0.5 hours per response.

Respondents/Affected Entities: Parties affected by the information collection requirements included in this Notice are any applicant for crop insurance, a producer with a valid crop insurance policy, or a private insurance company with a reinsurance agreement with FCIC or their agents, loss adjusters, employees or contractors.

Estimated annual number of respondents: 45.

Estimated annual number of responses per respondent: 3.5.

Estimated annual number of responses: 156.

Estimated total annual burden hours on respondents: 78.

All responses to this notice will be summarized and included in the request for OMB approval. All comments will also become a matter of public record.

Signed in Washington, DC, on November 30, 2005.
Eldon Gould,
Manager, Federal Crop Insurance Corporation.

[FR Doc. E5-6985 Filed 12-6-05; 8:45 am]

BILLING CODE 3410-08-P